DEPARTMENT OF ENERGY

Federal Energy Regulatory Commission

[Docket No. RM01-5-000]

Electronic Tariff Filings; Corrections to Etariff Tables

Take notice that the .CSV files for the eTariff Validation Error Codes, Attachment Reference Code, and Attachment Content Type Code have been reposted on ferc.gov (https://www.ferc.gov/ferc-online/etariff) to correct posting errors.

• The eTariff Validation Error Codes table is revised to include error code 190 that had been inadvertently omitted. On March 27, 2025, a notice was posted advising filing parties that Validation Error code 190 was being deployed on April 28, 2025, notifying filers that their filing has been rejected because tariff records contain track change markings in documents submitted as Microsoft Word files.¹ That revision inadvertently was not incorporated into the Validation Error Codes table. The table has now been updated to include code 190. To avoid triggering a rejection for including track changes, make sure to click on the “Accept All Changes and Stop Tracking” option to ensure track changes have been removed before submission.

¹ Notice of Changes to eTariff Validation Error Codes, Docket No. RM01-5-000 (March 27. 2025), https://elibrary.ferc.gov/eLibrary/filedownload?fileid=543A1FFA-6FAF-C59A-95F8-95D81AD00000.

• The Attachment Content Type Code is revised to include two missing file types: GAMS result file, GDX, and Gesture and Motion Signal File, GMS.

• The Attachment Reference Code removes duplicate entries for codes 395 and 405.

For more information, contact Michael.Goldenberg@ferc.gov, James.Sarikas@ferc.gov, or the eTariff Advisory Staff at 202-502-6501 or at etariffresponse@ferc.gov.

Dated: November 3, 2025.
Debbie-Anne A. Reese,
Secretary.

[FR Doc. 2025-20913 Filed 11-24-25; 8:45 am]

BILLING CODE 6717-01-P